FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 24, 2018.

A. Federal Reserve Bank of San Francisco (Gerald C. Tsai, Director, Applications and Enforcement) 101 Market Street, San Francisco, California 94105-1579:

1. The DeNault Family Trust dated August 18, 1978, as restated in full on June 1, 2009, Boulder Creek, California (“Trust”), and its trustees, John M. Cullison, Concord, California, Bodey D. DeNault, Ridgefield, Washington, Jean W. DeNault, Boulder Creek, California, John B. DeNault III, Fullerton, California, Kenneth J. DeNault, Cedar Falls, Iowa, Wendy Robeson, Raleigh, North Carolina, and John R. Stowe, Laguna Woods, California; to retain additional voting shares of Liberty Bancorp, and thereby retain voting shares of Liberty Bank, both of South San Francisco, California.

Board of Governors of the Federal Reserve System, April 4, 2018.
Ann Misback,
Secretary of the Board.

[FR Doc. 2018-07194 Filed 4-6-18; 8:45 am]

BILLING CODE P